DEPARTMENT OF THE TREASURY

Internal Revenue Service

26 CFR Part 1

[REG-116050-99]

RIN 1545-AX65

Stock Transfer Rules: Carryover of Earnings and Taxes; Hearing Cancellation

AGENCY: Internal Revenue Service (IRS), Treasury.

ACTION: Cancellation of notice of public hearing on proposed rulemaking.

SUMMARY: This document provides notice of cancellation of a public hearing on proposed regulations relating to stock transfer rules and carryover of earnings and taxes.

DATES: The public hearing originally scheduled for Tuesday, March 13, 2001, at 10 a.m., is canceled.

FOR FURTHER INFORMATION CONTACT: Guy R. Traynor of the Regulations Unit, Office of Special Counsel, at (202) 622-7180 (not a toll-free number).

SUPPLEMENTARY INFORMATION: A notice of proposed rulemaking and notice of public hearing that appeared in the Federal Register on November 15, 2000, (65 FR 69138), announced that a public hearing was scheduled for March 13, 2001 at 10 a.m., in Room 7218 of the Internal Revenue Building, 1111 Constitution Avenue NW., Washington, DC 20224. The subject of the public hearing is proposed regulations under section 367 of the Internal Revenue Code. The public comment period for these proposed regulations expired on February 20, 2001.

The notice of proposed rulemaking and notice of public hearing, instructed those interested in testifying at the public hearing to submit a request to speak and an outline of the topics to be addressed. As of February 23, 2001, no one has requested to speak. Therefore, the public hearing scheduled for March 13, 2001, is canceled.

Cynthia E. Grigsby,
Chief, Regulations Unit, Office of Special Counsel (Modernization & Strategic Planning).

[FR Doc. 01-4925 Filed 3-1-01; 8:45 am]

BILLING CODE 4830-01-P